DEPARTMENT OF THE INTERIOR

Fish and Wildlife Service

[FWS-R6-ES-2017-N174; FXES11130600000-189-FF06E00000]

U.S. Endangered Species; Receipt of Recovery Permit Applications

AGENCY: Fish and Wildlife Service, Interior.

ACTION: Notice of receipt of permit applications; request for comments.

SUMMARY: We, the U.S. Fish and Wildlife Service, invite the public to comment on applications for permits to conduct activities intended to enhance the propagation or survival of endangered species. With some exceptions, the Endangered Species Act of 1973, as amended (ESA), prohibits activities that constitute take of listed species unless a Federal permit is issued that allows such activity. The ESA also requires that we invite public comment before issuing these permits.

DATES: We must receive your written comments by April 9, 2018.

ADDRESSES:

Document availability: Documents and other information submitted with the applications are available for review, subject to the requirements of the Privacy Act (5 U.S.C. 552a) and Freedom of Information Act (5 U.S.C. 552), by any party who submits a written request for a copy of such documents to the following office within 30 days of the date of publication of this notice (see DATES): U.S. Fish and Wildlife Service Regional Office, Ecological Services, [INSERT REGION-SPECIFIC ADDRESS], (Attn: [INSERT COORDINATOR'S NAME], Permit Coordinator).

Submitting comments: You may submit comments by one of the following methods. Please specify applicant name(s) and application number(s) to which your comments pertain (e.g., TE-XXXXXX).

• Email: permitsR6ES@fws.gov. Please refer to the respective permit number (e.g., Application No. TE-XXXXXX) in the subject line of your email message.

• U.S. Mail: Ecological Services, U.S. Fish and Wildlife Service, P.O. Box 25486-DFC, Denver, CO 80225.

• Hand-delivery, Pickup, or Viewing: Call 303-236-4224 to make an appointment during regular business hours between 8 a.m. and 4 p.m. Monday through Friday, except Federal holidays, at 134 Union Blvd., Suite 645, Lakewood, CO 80228.

FOR FURTHER INFORMATION CONTACT: Kathy Konishi, Recovery Permits Coordinator, Ecological Services, 303-236-4224 (phone); permitsR6ES@fws.gov (email). Individuals who are hearing or speech impaired may call the Federal Relay Service at 1-800-877-8339 for TTY assistance.

SUPPLEMENTARY INFORMATION:

Background

The Endangered Species Act (16 U.S.C. 1531 et seq.; ESA) prohibits certain activities with endangered and threatened species unless authorized by a Federal permit. The ESA and our implementing regulations in part 17 of title 50 of the Code of Federal Regulations (CFR) provide for the issuance of such permits and require that we invite public comment before issuing permits for activities involving endangered species.

A recovery permit issued under section 10(a)(1)(A) of the ESA authorizes the permittee to conduct activities with endangered species for scientific purposes that promote recovery or for enhancement of propagation or survival of the species. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

We invite local, State and Federal agencies, Tribes, and the public to comment on the following applications.

Application No. | Applicant, city, state | Species | Location | Activity | Type of take | Permit action
TE106182-2 | Denver Botanic Gardens, Denver, CO | Eriogonum pelinophilum (Clay-loving wild buckwheat), Phacelia submutica (Mancos milk-vetch), Phacelia formosula (North Park phacelia), Astragalus osterhoutii (Osterhout milkvetch) Ipomopsis polyantha (Pagosa skyrocket) Penstemon penlandii (Penland beardtongue), Pediocactus despainii (San Rafael cactus) | Colorado, New Mexico, Utah | Seed, fruit collection, bio samples, collect voucher specimens, propagation | Remove and reduce to possession | Renew.
TE064680-2 | Capitol Reef National Park, Torrey, UT | Hesperidanthus barnebyi (Barneby reed-mustard), Sclerocactus wrightiae (Wright's fishhook cactus) | Utah | Seed, fruit collection, bio samples, collect voucher specimens | Remove and reduce to possession | Renew.
TE067486-2 | University of Nebraska, Lincoln, NE | Pallid sturgeon (Scaphirhynchus albus) | Nebraska | Implant radio telemetry tags to track spawning migration in the Missouri River basin | Capture, handle, and radio tag | Renew.
TE66511C-0 | Milu S. Velardi, Denver, CO | New Mexico meadow jumping mouse (Zapus hudsonius luteus) | Colorado, New Mexico | Survey and monitor to determine baseline population numbers | Capture and handle | New.
TE68706C-0 | Christopher Guy, Bozeman, MT | Pallid sturgeon (Scaphirhynchus albus) | Montana | Survey, monitor, collect bio samples to analyze pallid sturgeon reproduction in the Missouri River above Fort Peck Reservoir, Montana | Capture and handle | New.
TE98708A-2 | State of South Dakota Environmental Agency, Pierre, SD | Topeka shiner (Notropis topeka) | South Dakota | Survey and monitor to determine baseline population numbers | Capture and handle | Renew.
TE64613B-2 | Andrew Phillips, Colorado Springs, CO | Southwestern willow flycatcher (Empidonax traillii extimus) | Arizona, New Mexico, Texas, Utah, California, Nevada | Survey and monitor to determine baseline population numbers | Disturbance | Amend.
TE72607C-0 | New Century Environmental, LLC, Columbus, NE | Interior least tern (Sternula antillarum athalassos) | Nebraska | Survey and monitor to determine baseline population numbers | Disturbance | New.

Public Availability of Comments

Before including your address, phone number, email address, or other personal identifying information in your comment, you should be aware that your entire comment—including your personal identifying information—may be made publicly available at any time. If you submit a hardcopy comment that includes personal identifying information, you may request at the top of your document that we withhold this information from public review; however, we cannot guarantee that we will be able to do so.

Contents of Public Comments

Please make your comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations.

Next Steps

If we decide to issue permits to any of the applicants listed in this notice, we will publish a notice in the Federal Register.

Authority

We publish this notice under section 10(c) of the Endangered Species Act of 1973, as amended (16 U.S.C. 1531 et seq.,)

Michael Thabault,
Assistant Regional Director, Mountain-Prairie Region.

[FR Doc. 2018-04648 Filed 3-7-18; 8:45 am]

BILLING CODE 4333-15-P